DEPARTMENT OF TRANSPORTATION

Federal Aviation Administration

Agency Information Collection Activities: Requests for Comments; Clearance of New Approval of Information Collection: Air Traffic Slots Management

AGENCY: Federal Aviation Administration (FAA), DOT.

ACTION: Notice and request for comments.

SUMMARY: In accordance with the Paperwork Reduction Act of 1995, FAA invites public comments about our intention to request the Office of Management and Budget (OMB) approval for an existing information collection. The Federal Register Notice with a 60-day comment period soliciting comments on the following collection of information was published on August 31, 2012, vol. 77, no. 170, page 53249. The FAA collects information to allocate slots and maintain accurate record of slot transfers at slot-controlled airports. The information is provided by air carriers and other operators at slot controlled airports.

DATES: Written comments should be submitted by February 27, 2013.

FOR FURTHER INFORMATION CONTACT: Kathy DePaepe at (405) 954-9362, or by email at: Kathy.A.DePaepe@faa.gov.

SUPPLEMENTARY INFORMATION: OMB Control Number: 2120-XXXX.

Title: Air Traffic Slots Management.

Form Numbers: There are no FAA forms associated with this collection.

Type of Review: New clearance of an existing information collection.

Background: The FAA has implemented several initiatives to address congestion and delay issues within the National Airspace System. The FAA has issued orders limiting operations at John F. Kennedy International Airport (JFK), Newark Liberty International Airport (EWR), and LaGuardia Airport (LGA). The FAA also has designated O'Hare International Airport (ORD) and San Francisco International Airport (SFO) as Level 2 airports under the International Air Transport Association (IATA) Worldwide Slot Guidelines (WSG). These orders resulted in part from increasing congestion and delays at the airports requiring the FAA to allocate arrival and departure slots at JFK, EWR, and LGA. The designations resulted in part from increasing congestion and delays at the airports requiring FAA to implement a voluntary process to manage operational growth at ORD and SFO.

The information is reported to the FAA by carriers holding a slot at JFK, EWR, or LGA; by carriers operating at ORD or SFO; or by operators conducting unscheduled operations at LGA. At JFK and EWR, carriers must notify the FAA of: (1) Requests for confirmation of transferred slots; (2) requests for seasonal allocation of historic and additional available slots; and (3) usage of slots on a seasonal basis. At LGA, carriers must notify the FAA of: (1) Requests for confirmation of transferred slots; (2) slots required to be returned or slots voluntarily returned; (3) requests to be included in a lottery for available slots; and (4) usage of slots on a bi-monthly basis. At LGA, unscheduled operators must request and obtain a reservation from the FAA prior to conducting an operation. At ORD and SFO, carriers must notify the FAA of their intended operating schedules on a seasonal basis. The FAA estimates that all information from carriers is submitted electronically from information stored in carrier scheduling databases, and that nearly all requests for unscheduled operation reservations are submitted electronically through either an Internet or touch-tone system interface.

Respondents: Approximately 500 carriers and other operators.

Frequency: Information is collected as needed; some reporting on bimonthly or semiannual basis.

Estimated Average Burden per Response: 2 minutes per unscheduled operation reservation; 6 minutes per notice of slot transfer; 2 hours per schedule submission or slot request; and 2 hours per slot usage report.

Estimated Total Annual Burden: 7,031.5 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on January 17, 2013.
Albert R. Spence,
FAA Assistant Information Collection Clearance Officer, IT Enterprises Business Services Division, AES-200.

[FR Doc. 2013-01717 Filed 1-25-13; 8:45 am]

BILLING CODE 4910-13-P